DEPARTMENT OF HEALTH AND HUMAN SERVICES

National Institutes of Health

Notice To Announce Request for Information (RFI) Inviting Input on the ICCFASD 2022-2026 Strategic Plan Outline

AGENCY: National Institutes of Health, HHS.

ACTION: Notice.

SUMMARY: The Interagency Coordinating Committee on Fetal Alcohol Spectrum Disorders (ICCFASD) is developing an updated strategic plan to guide its efforts over the next five years. As sponsor and chair of the ICCFASD, the National Institute on Alcohol Abuse and Alcoholism (NIAAA) will be issuing a Request for Information to seek comments on the draft outline of the ICCFASD's 2022-2026 Strategic Plan from diverse stakeholders, including scientific experts, health care providers, patients and family members, advocacy groups, other federal agencies, and non-governmental scientific, professional, and healthcare organizations.

DATES: Comments must be received by August 31, 2021, to ensure consideration. Responses will be reviewed by ICCFASD members and considered during the development of the 2022-2026 Strategic Plan.

ADDRESSES: To view and comment on the strategic plan outline, please visit our online response form: RFI online response form.

FOR FURTHER INFORMATION CONTACT: Tatiana Balachova, ICCFASD Executive Secretary, National Institute on Alcohol Abuse and Alcoholism, NIH, 6700B Rockledge Drive, Bethesda, MD 20817. Phone: 301-443-5726, Email: NIAAA-ICCFASD@mail.nih.gov.

SUPPLEMENTARY INFORMATION: In accordance with the 21st Century Cures Act, NIH institutes are required to regularly update their strategic plans. The Interagency Coordinating Committee on Fetal Alcohol Spectrum Disorders (ICCFASD) fosters improved communication, cooperation, and collaboration among disciplines and federal agencies that address health, education, developmental disabilities, alcohol research, and social services and justice issues related to prenatal alcohol exposure. The ICCFASD envisions that collaborative partnerships, using the resources of the federal government in partnership with other organizations, will lead to improved prevention of prenatal alcohol exposure, earlier identification and improved surveillance of fetal alcohol spectrum disorders (FASD), and more effective interventions and services for individuals living with FASD as well as their families. ICCFASD is sponsored and chaired by the National Institute on Alcohol Abuse and Alcoholism.

Vicki E. Buckley,
Associate Director of Administration, National Institute on Alcohol Abuse and Alcoholism, National Institutes of Health.

[FR Doc. 2021-14689 Filed 7-9-21; 8:45 am]

BILLING CODE 4140-01-P